DEPARTMENT OF ENERGY

Federal Energy Regulatory Commission

Notice of Filing

May 2, 2008.

PSEG Energy Resources & Trade LLC | ER99-3151-008
Public Service Electric and Gas Company | ER97-837-007
PSEG Power Connecticut LLC | ER03-327-002
PSEG Fossil LLC | ER08-447-000
PSEG Nuclear LLC | ER08-448-000
PPL Electric Utilities Corporation | ER00-1712-008
Lower Mount Bethel Energy, LLC | ER02-2408-003
PPL Brunner Island, LLC | ER00-744-006
PPL Holtwood, LLC
PPL Martins Creek, LLC
PPL Montour, LLC
PPL Susquehanna, LLC
PPL University Park, LLC | ER02-1327-005
PPL EnergyPlus, LLC | ER00-1703-003
PPL Edgewood Energy, LLC | ER02-1749-003
PPL Shoreham Energy, LLC | ER02-1747-003
PPL Great Works, LLC | ER99-4503-005
PPL Maine, LLC | ER00-2186-003
PPL Wallingford Energy LLC | ER01-1559-004
Atlantic City Electric Company | ER96-1361-013
Delmarva Power & Light | ER99-2781-011
Potomac Electric Power Company | ER98-4138-009
Conectiv Energy Supply, Inc. | ER00-1770-019
Conectiv Bethlehem, LLC | ER02-453-010
Pepco Energy Services, Inc. | ER98-3096-015
Bethlehem Renewable Energy, LLC | ER07-903-002
Eastern Landfill Gas, LLC | ER05-1054-003
Potomac Power Resources, LLC | ER01-202-008
Fauquier Landfill Gas, LLC | ER04-472-007
Dominion Energy Marketing, Inc. | ER01-468-008
Dominion Nuclear Connecticut, Inc. | ER00-3621-009
Dominion Nuclear Marketing III, LLC | ER00-3746-009
Dominion Energy Kewaunee, Inc. | ER04-318-004
Dominion Energy Brayton Point, LLC | ER05-36-005
Dominion Energy Manchester Street, Inc. | ER05-37-005
Dominion Energy New England, Inc. | ER05-34-005
Dominion Energy Salem | ER05-35-005
Dominion Retail, Inc. | ER04-249-005
Elwood Energy, LLC | ER99-1695-010
Fairless Energy, LLC | ER02-23-011
Kincaid Generation, LLC | ER97-30-006
State Line Energy, LLC | ER96-2869-013
Virginia Electric and Power Company | ER97-3561-005
| ER00-1737-011
Baltimore Gas and Electric Company | ER99-2948-012
Constellation Power Source Generation, Inc. | ER00-2918-011
Calvert Cliffs Nuclear Power Plant, Inc. | ER00-2917-011
Constellation Energy Commodities Group, Inc. | ER97-2261-022
Handsome Lake Energy, LLC | ER01-556-010
Nine Mile Point Nuclear Station, LLC | ER01-1654-013
Constellation NewEnergy, Inc. | ER02-2567-011
Constellation Energy Commodities Group Maine, LLC | ER02-699-005
R.E. Ginna Nuclear Power Plant | ER04-485-008
Raven One, LLC | ER07-247-003
Raven Two, LLC | ER07-245-003
Raven Three, LLC | ER07-244-003
Exelon Generation Company, LLC | ER00-3251-015
AmerGen Energy Company, LLC | ER99-754-016
Commonwealth Edison Company | ER98-1734-014
Exelon Energy Company | ER01-1919-011
PECO Energy Company | ER01-1147-006
Exelon West Medway, LLC | ER01-513-021
Exelon New Boston, LLC
Exelon Framingham, LLC
Exelon Wyman, LLC
Exelon New England Power Marketing, L.P. | ER99-2404-011
FirstEnergy Operating Companies | ER01-1403-006
Pennsylvania Power Company, et al. | ER06-1443-002
Jersey Central Power & Light Company | ER04-366-005
FirstEnergy Solutions Corp. | ER01-2968-007
FirstEnergy Generation Corporation | ER01-845-006
FirstEnergy Nuclear Generating Corporation | ER05-1122-004
FirstEnergy Generating Mansfield Unit 1 Corp. (collectively PJM RTO Filers) | ER08-107-001

Take notice that on April 30, 2008, The PJM RTO filers filed a partial compliance filing, pursuant to the Commission's April 4, 2008 Letter Order, requesting addition information related to PJM RTO filer's upated market power analyses.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on May 20, 2008.

Kimberly D. Bose,
Secretary.

[FR Doc. E8-10295 Filed 5-8-08; 8:45 am]

BILLING CODE 6717-01-P